DEPARTMENT OF LABOR

Employment and Training Administration

DEPARTMENT OF EDUCATION

Office of Career, Technical, and Adult Education; Rehabilitation Services Administration; Comment Request for Information Collection for the WIOA Performance Management, Information, and Reporting System (OMB Control No. 1205-0NEW), New Collection

ACTION: Notice.

SUMMARY: The U.S. Departments of Labor and Education (the Departments), as part of their continuing effort to reduce paperwork and respondent burden, are conducting a preclearance consultation to provide the public and Federal agencies with an opportunity to comment on the proposed collection of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, the Departments are soliciting comments concerning the collection of data for the WIOA Performance Management, Information, and Reporting System (OMB Control No. 1205-0NEW). The data collections included in this reporting system fulfill requirements in WIOA Sec.116(d)(1) for the development of report templates for the State Performance Report for WIOA core programs, the Local Area Performance Report, and the Eligible Training Provider Report. Previously, a supporting statement was provided for this data collection under OMB Control No. 1205-0420, which was made public on April 16, 2015. The sole difference between the aforementioned supporting statement and the subject of this notice is that OMB Control No. 1205-0NEW does not include the non-WIOA related, currently cleared burden.

DATES: Submit written comments to the office listed in the addresses section below on or before September 21, 2015.

ADDRESSES: Comments submitted in response to this notice should be submitted electronically through the Federal eRulemaking Portal at http://www.regulations.gov by selecting Docket ID number ETA-2015-0007 or via postal mail, commercial delivery, or hand delivery. A copy of the proposed information collection request (ICR) with applicable supporting documentation, including a description of the likely respondents, proposed frequency of response, and estimated total burden may be obtained free of charge from http://www.regulations.gov or by contacting Luke Murren by telephone at 202-693-3733 (this is not a toll-free number) or by email at murren.luke@dol.gov. Individuals with hearing or speech impairments may access the telephone number above via TTY by calling the toll-free Federal Information Relay Service at 1-877-889-5627 (TTY/TDD). Fax: 202-693-2766.

Mail and hand delivery/courier: Send written comments to Luke Murren, Office of Policy Development and Research, Room N5641, Employment and Training Administration, U.S. Department of Labor, 200 Constitution Avenue NW., Washington, DC 20210. Due to security-related concerns, there may be a significant delay in the receipt of submissions by United States Mail. You must take this into consideration when preparing to meet the deadline for submitting comments.

Comments submitted in response to this comment request will become a matter of public record and will be summarized and included in the request for Office of Management and Budget approval of the information collection request. In addition, comments regardless of the delivery method, will be posted without change on the http://www.regulations.gov Web site; consequently, the Departments recommend commenters not include personal information such as a Social Security Number, personal address, telephone number, email address, or confidential business information that they do not want made public. It is the responsibility of the commenter to determine what to include in the public record.

SUPPLEMENTARY INFORMATION:

I. Background

Section 116 of WIOA requires States that operate core programs of the publicly-funded workforce system to comply with common performance accountability requirements. As such, States that operate core programs must submit common performance data to demonstrate that specified performance levels are achieved.

WIOA Sec. 116(d)(2)—“Contents of State Performance Reports”— mandates that the Secretaries of Labor and Education develop a template for performance reports to be used by States, local boards, and eligible providers of training services for reporting on outcomes achieved by the WIOA core programs (the Adult, Dislocated Worker, and Youth programs under Title I; the Adult Education and Family Literacy Act program under Title II; the Wagner-Peyser Act program amended by Title III; and the Vocational Rehabilitation Services program under Title IV). Required annual data for the core programs include those related to primary performance indicators, participant counts and costs, and barriers to employment.

The WIOA Annual Local Area Performance Report Template is a subset of the WIOA Annual State Performance Report Template that, under section 116(d)(3) of WIOA, requires the collection of the same aforementioned counts and costs disaggregated by barriers to employment with respect to the primary indicators for the Title I Youth, Adult, and Dislocated Worker programs.

WIOA Sec. 116(d)(4)—“Contents of Eligible Training Provider Report” (in 20 CFR part 677 of the NPRM)—mandates the collection of specific information for each program of study for each eligible provider of training services under Title I Adult and Dislocated Worker programs. Required data must include those related to primary performance indicators, participant counts and costs, and barriers to employment.

These templates have been designed to maximize the value of the reports for workers, jobseekers, employers, local elected officials, State officials, Federal policymakers, and other key stakeholders. At the same time they have been designed to reflect the specific requirements of the reports as described in WIOA section 116(d)(2) through (4).

Once States, local areas, and eligible training providers submit the required data, it will be used by the Departments to assess the effectiveness of WIOA's core programs and to monitor and analyze the performance of their grantees. This data collection format permits the Departments to evaluate program effectiveness, monitor compliance with statutory requirements, and analyze participant activity, while complying with OMB efforts to streamline Federal performance reporting.

Under this collection, participation will be measured based on the count of individuals who meet the proposed definition of a “participant”—e.g., those who have received staff-level services within the program year, or have received vocational rehabilitation services under a signed individualized plan for employment. An individual will be considered to have exited after they have gone 90 days without service, and with no future services scheduled. Should they return for additional services after the 90 days—within the same program year and exit in that same program year—the individual's exit date will be changed to reflect only the last exit date in that program year. If the individual exits in a subsequent program year, they would be counted as a new participant for purposes of that subsequent program year. Counting unique individuals in this manner will allow an unduplicated count of participants in the accountability and reporting system. The Departments understand that this may affect quarterly reporting results and counts of services rendered early in the program year for those core programs that submit quarterly reports, particularly for core programs whose current reporting practices differ from what is described above. As such, we greatly encourage your comments on the potential impact on individual states and local areas of this and all other items discussed in this package as we continue to finalize the details of this information collection process.

II. Review Focus

The Department is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology (e.g., permitting electronic submissions of responses).

III. Current Actions

Type of Review: New collection.

Title: WIOA Performance Management, Information, and Reporting System.

OMB Number: 1205-0NEW.

Affected Public: State governments.

Estimated Total Annual Respondents: 194.

Estimated Total Annual Responses: 18,691,589.

Estimated Total Annual Burden Hours: 2,228,295.

Total Estimated Annual Other Costs Burden: $0.

We will summarize and/or include in the request for OMB approval of the ICR, the comments received in response to this comment request; they will also become a matter of public record.

As mentioned above, this ICR is intended to cover the performance data collection and reporting requirements in section 116 of WIOA. The notice of proposed rulemaking (NPRM) implementing WIOA was published on April 16, 2015, at 80 FR 20573-20687. The comment period closed on June 15, 2015.

Sec. 506(b)(1) of WIOA states that section 116 of WIOA will go into effect at the start of the second full program year after the date WIOA was enacted. WIOA was enacted on July 22, 2014. Therefore, section 116's performance accountability system will be effective on July 1, 2016. Approval of this information collection request is required so that the states, locals, and other entities can begin programming their management information systems in order to enable them to collect the necessary data to implement the data collection and reporting requirements of section 116 in accordance with the WIOA statute.

If this information collection receives OMB approval, it may be finalized before the proposed regulations are finalized. If this occurs, the Departments will resubmit this ICR to OMB for its approval when the Final Rule is published, as required by 5 CFR 1320.11(h). However, the Departments plan to review and analyze any comments received on the NPRM that are relevant to this ICR, together with comments received on this ICR as we finalize this ICR. This is intended to enable the Departments to finalize this ICR before finalizing the proposed regulations, and to eliminate the need to make any substantive changes to the ICR when the Final Rule is published.

Portia Wu,
Assistant Secretary for Employment and Training, Department of Labor.
Johan E. Uvin,
Acting Assistant Secretary for Career, Technical, and Adult Education, Department of Education.
Michael K. Yudin,
Assistant Secretary for Special Education and Rehabilitative Services, Department of Education.

[FR Doc. 2015-17888 Filed 7-21-15; 8:45 am]

BILLING CODE 4510-FN-P